DEPARTMENT OF TRANSPORTATION

Federal Aviation Administration

Thirtieth RTCA SC-225 Rechargeable Lithium Batteries and Battery Systems Plenary

AGENCY: Federal Aviation Administration (FAA), U.S. Department of Transportation (DOT).

ACTION: Thirtieth RTCA SC-225 Rechargeable Lithium Batteries and Battery Systems Plenary.

SUMMARY: The FAA is issuing this notice to advise the public of a meeting of Thirtieth RTCA SC-225 Rechargeable Lithium Batteries and Battery Systems Plenary.

DATES: The meeting will be held July 11, 2017, 9:00 a.m.-5:00 p.m.

ADDRESSES: The meeting will be held virtually at: https://rtca.webex.com/rtca/j.php?MTID=m59d3f531a9ceafdb01cdb64c4c513ceb. Join by phone, 1-877-668-4493 Call-in toll-free number (US/Canada), 1-650-479-3208 Call-in toll number (US/Canada), Access code: 638 701 429, Meeting Password: fEMApqR8.

FOR FURTHER INFORMATION CONTACT: Karan Hofmann at khofmann@rtca.org or 202-330-0680, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirtieth RTCA SC-225 Rechargeable Lithium Batteries and Battery Systems Plenary. The agenda will include the following:

Tuesday, July 11, 2017—9:00 a.m.-5:00 p.m.

1. Welcome and Administrative Remarks (Including DFO & RTCA Statement)

2. Introductions

3. Agenda Review

4. Meeting-Minutes Review

5. Final Review and Comment (FRAC) Resolution Review

6. Approval of DO-311A for Submission to RTCA PMC

7. Action Item Review

8. Any Other Business

9. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on June 21, 2017.
John Raper,
Branch Manager—Forecasting, Planning and Reporting (ANG-A15), Branch Manager (acting)—Partnership Contracts Branch (ANG-A17), Management Services Office, NextGen Organization, Federal Aviation Administration.

[FR Doc. 2017-13274 Filed 6-23-17; 8:45 am]

BILLING CODE 4910-13-P